DEPARTMENT OF HOMELAND SECURITY

Coast Guard

[Docket No. USCG-2016-0142]

Towing Safety Advisory Committee

AGENCY: Coast Guard, Department of Homeland Security.

ACTION: Notice of Federal Advisory Committee meeting.

SUMMARY: The Towing Safety Advisory Committee and its subcommittees will meet to discuss matters relating to shallow-draft inland and coastal waterway navigation and towing safety. The meetings will be open to the public.

DATES: Subcommittees are scheduled to meet on April 13, 2016, from 8 a.m. to 5:30 p.m., and the full Committee is scheduled to meet on April 14, 2016, from 8 a.m. to 5:30 p.m. Please note that these meetings may adjourn early if the Committee has completed its business.

ADDRESSES: The meetings will be held at the OMNI Riverfront Hotel, 701 Convention Center Boulevard, New Orleans, LA 70130. The telephone number for the hotel is 504-524-8200 and the Web site is: http://www.omnihotels.com/hotels/new-orleans-riverfront.

For information on facilities or services for individuals with disabilities or to request special assistance at the meeting, contact the Alternate Designated Federal Officer as soon as possible.

To facilitate public participation, we are inviting public comment on the issues to be considered by the Committee as listed in the “Agenda” section below. Written comments for distribution to Committee members must be submitted no later than April 2, 2016, if you want the Committee members to be able to review your comments before the meeting, and must be identified by Docket No. USCG-2016-0142. Written comments may be submitted using the Federal eRulemaking Portal at http://www.regulations.gov. If your material cannot be submitted using http://www.regulations.gov, contact the Alternate Designated Federal Officer for alternate instructions.

Instructions: All submissions received must include the words “Department of Homeland Security” and the docket number for this action. All comments will be posted without alteration at http://www.regulations.gov including any personal information provided. You may review a Privacy Act notice regarding the Federal Docket Management System in the March 24, 2005, issue of the Federal Register (70 FR 15086).

Docket: For access to the docket to read documents or comments related to this notice, go to http://www.regulations.gov, type USCG-2016-0142 in the Search box, press Enter, and then click on the item you wish to view.

FOR FURTHER INFORMATION CONTACT: Mr. William J. Abernathy, Alternate Designated Federal Officer of the Towing Safety Advisory Committee; Commandant (CG-OES-2), U.S. Coast Guard, 2703 Martin Luther King Jr. Avenue SE., Stop 7509, Washington, DC 20593-7509; telephone 202-372-1363, fax 202-372-8382; or email William.J.Abernathy@uscg.mil.

SUPPLEMENTARY INFORMATION: Notice of this meeting is given under the Federal Advisory Committee Act, Title 5 U.S.C. Appendix. This Committee is established in accordance with, and operates under the provisions of the Federal Advisory Committee Act. As stated in 33 U.S.C. 1231a, the Towing Safety Advisory Committee provides advice and recommendations to the Secretary of the Department of Homeland Security on matters relating to shallow-draft inland and coastal waterway navigation and towing safety.

Agenda

Day 1

The subcommittees will meet on April 13, 2016, from 8 a.m. to 5:30 p.m., to work on their specific task assignments:

(1) Recommendations regarding Automation Equipment, Testing, Assessment, and Trial Periods on Towing Vessels.

(2) Recommendations for the Maintenance, Repair, and Utilization of Towing Equipment, Lines, and Couplings.

(3) Recommendations concerning the MODU KULLUK Report of Investigation.

(4) Recommendations regarding Articulated Tug/Barge Manning and Operations.

(5) Recommendations for Electronic Charting Systems.

Day 2

On April 14, 2016, from 8 a.m. to 5:30 p.m., the Towing Safety Advisory Committee will meet and receive reports concerning the following:

(1) Recommendations regarding Automation Equipment, Testing, Assessment, and Trial Periods on Towing Vessels, progress report,

(2) Recommendations for the Maintenance, Repair and Utilization of Towing Equipment, Lines and Couplings, final report,

(3) Recommendations concerning the MODU KULLUK Report of Investigation, final report,

(4) Recommendations regarding Articulated Tug/Barge Manning and Operations, progress report, and,

(5) Recommendations for Electronic Charting Systems, progress report.

In addition, the Committee will hear a presentation from the U.S. Coast Guard, District 8.

There will be a comment period for Towing Safety Advisory Committee members and a comment period for the public after each report presentation, but before each is voted on by the Committee. The Committee will review the information presented on each issue, deliberate on any recommendations presented in the Subcommittees' reports, and formulate recommendations for the Secretary's consideration.

A copy of all meeting documentation will be available at: https://homeport.uscg.mil/tsac no later than April 2, 2016. Alternatively, you may contact Mr. William Abernathy as noted in the FOR FURTHER INFORMATION CONTACT section above.

An opportunity for oral comments by the public will be provided during the meeting on April 14, 2016. Speakers are requested to limit their comments to 3 minutes. Please note the public oral comment period may end before 5:30 p.m. if the Committee has finished its business earlier than scheduled. Please contact Mr. William J. Abernathy, listed above in the FOR FURTHER INFORMATION CONTACT section to register as a speaker.

Minutes

Minutes from the meeting will be available for public review and copying within 90 days following the close of the meeting and can be accessed from the Coast Guard Homeport Web site http://homeport.uscg.mil/tsac.

Notice of Future 2016 Towing Safety Advisory Committee Meetings

To receive automatic email notices of any future Towing Safety Advisory Committee meetings in 2016, go to the online docket, USCG-2016-0142 (http://www.regulations.gov/#!docketDetail;D=USCG-2016-0142), and select the sign-up-for-email-alerts option. We plan to use the same docket number for all Towing Safety Advisory Committee meeting notices in 2016, so if another 2016 meeting notice is published you will receive an email alert from www.regulations.gov when the notice appears in this docket.

Dated: March 22, 2016.
F.J. Sturm,
Acting Director of Commercial Regulations and Standards, United States Coast Guard.

[FR Doc. 2016-06822 Filed 3-24-16; 8:45 am]

BILLING CODE 9110-04-P